EXECUTIVE OFFICE OF THE PRESIDENT

Office of National Drug Control Policy

Application of Equity in U.S. National Drug Control Policy

AGENCY: Office of National Drug Control Policy.

ACTION: Request for information.

SUMMARY: The Office of National Drug Control Policy (ONDCP) is seeking comments from the public on whether and to what extent ONDCP's policy development process, drug budget review and certification processes of the 18 National Drug Control Program Agencies, and Grant Administration Programs perpetuate systemic barriers to opportunities for underserved communities and individuals from those communities. ONDCP is also seeking comments from the public regarding how its future proposed policies, budgets, regulations, grants, or programs might be more effective in advancing equity.

DATES: ONDCP encourages and will accept public comments on or before August 6, 2021.

ADDRESSES: Written comments may be submitted by members of the general public and stakeholder organizations by email to OGC@ondcp.eop.gov.

SUPPLEMENTARY INFORMATION: ONDCP seeks input according to the processes outlined by Executive Order (E.O.) 13985, that requires agencies to select certain agency programs and policies and assess whether underserved communities and their members, face systemic barriers in accessing benefits and opportunities available pursuant to those policies and programs.

E.O. 13985 defines “equity” as the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality. It defines “underserved communities” as populations sharing a particular characteristic, as well as geographic communities, that have been systematically denied a full opportunity to participate in aspects of economic, social, and civic life, as exemplified by the list in the preceding definition of “equity.”

The E.O. requires agencies to assess whether, and to what extent, its programs and policies perpetuate systemic barriers to opportunities and benefits for people of color and other underserved groups. Such assessments will better equip agencies to develop policies and programs that deliver resources and benefits equitably to all. The E.O. also requires agencies to study strategies for allocating Federal resources, consistent with applicable law, in a manner that increases investment in underserved communities, and individuals from those communities, to address the historic failure to ensure investments are sufficient, just, and equal. However, many Federal datasets are not disaggregated by race, ethnicity, gender, disability, income, veteran status, or other key demographic variables. Furthermore, in carrying out the E.O., agencies shall consult with members of communities that have been historically underrepresented in the Federal Government and underserved by, or subject to discrimination in, Federal policies and programs. The head of each agency shall evaluate opportunities, consistent with applicable law, to increase coordination, communication, and engagement with community-based organizations and civil rights organizations.

ONDCP is the agency in the Executive Office of the President primarily responsible for leading and coordinating the nation's drug control policy through the development and oversight of the National Drug Control Strategy and the National Drug Control Budget. ONDCP recently released the Biden-Harris Administration's Drug Policy Priorities for the Administration's first year. The seven priorities propose specific and targeted actions to reduce overdoses and promote recovery, including advancing racial equity in our approach to drug policy, expanding access to quality treatment, reducing the supply of illicit substances, and enhancing evidence-based harm reduction services that engage and build trust with people who use drugs, among others. The priorities emphasize several cross-cutting facets of the overdose epidemic, namely by advancing racial equity in drug policy and promoting harm-reduction efforts.

While ONDCP employs experts in policy, public health, and public safety, the agency also organizes formal consultations with key external stakeholders. These external perspectives are crucial to help develop national drug control policy. ONDCP seeks to incorporate more perspectives from a wide array of backgrounds, including those most impacted by United States' drug policies.

Through budget review and certification processes, ONDCP aligns funding resources for 18 Federal government agencies and departments with the National Drug Control Strategy. The President's Fiscal Year (FY) 2022 budget request, included a $41.0 billion investment for national drug program agencies, representing a $669.9 million increase over the FY 2021 enacted level. The largest increases in funding are for critical public health interventions like treatment and prevention services. Each spring, ONDCP's policy and budget staff develop and share budget guidance letters with these agencies. Agencies then review the budget guidance letters and submit preliminary budget proposals to ONDCP. ONDCP reviews the budget proposals to ensure they meet the guidance requirements and, based on the outcome of the review, certifies agency budgets. Key information about where drug budget investments are directed and the impact for different demographic groups (e.g., by race, ethnicity, gender, disability, income, veteran status, and more) is not fully known.

Request for Comments: Pursuant to E.O. 13985, ONDCP is issuing this request for information (RFI), to gather data on whether and to what extent ONDCP's policy development process, drug budget review and certification processes, and Grant Administration Programs perpetuate systemic barriers to opportunities for underserved communities and individuals from those communities. In addition, ONDCP is issuing this RFI to gather information as to how its future proposed policies, budgets, regulations, grants, or programs might be more effective in advancing equity. Public input, information, and recommendations will help ONDCP develop an approach to advance equity in drug policy.

The work of advancing equity requires a holistic assessment of ONDCP practices and policies. The agency welcomes submissions that provide resources, tools, and examples of how the agency might perform an effective assessment on its Grant Administration Programs, ONDCP's policy development process, and ONDCP's drug budget review and certification processes, with the goal of embedding equity throughout agency practices and policies. Submissions might consider questions such as:

• Jurisdictions at the State, local, Tribal, and territorial levels have implemented equity assessment tools to inform their policymaking or budgetary processes. What are the lessons these jurisdictions have learned from implementing or interacting with those tools?

• Formal consultations for the National Drug Control Strategy often involve direct relationships between ONDCP and the consulting group, organization, or subject matter expert. What are recommendations on how the agency can broaden its formal consultations to gain broader perspectives earlier in the policy development process?

• How might research examine equity in the context of law enforcement actions against drug trafficking or transnational criminal organizations? Are there existing applicable research frameworks that might be applied to ONDCP's Grant Administration Programs or other multi-jurisdictional task forces?

• What nationally representative private health, drug or crime databases or systems might be leveraged to provide information about equitable application of U.S. drug policy and how might access to such databases improve equitable responses? Please provide specific contact information for follow-up with those in a position to authorize dataset access.

• Provide recommendations for ONDCP to involve people who use drugs, especially those not typically included in household surveys, in the development of National drug control policy.

• What would be your recommendations for short-term and long-term goals that ONDCP should take into account to measure progress towards equity in drug policy?

(Authority: E.O. 13985, signed by the President on January 20, 2021.)

Robert Kent,
General Counsel.

[FR Doc. 2021-14365 Filed 7-6-21; 8:45 am]

BILLING CODE 3280-F5-P